DEPARTMENT OF COMMERCE

National Oceanic and Atmospheric Administration

[RTID 0648-XG910]

Takes of Marine Mammals Incidental To Specified Activities; Taking Marine Mammals Incidental to the Sand Island Pile Dike System Test Piles Project Near the Mouth of the Columbia River; Correction

AGENCY: National Marine Fisheries Service (NMFS), National Oceanic and Atmospheric Administration (NOAA), Commerce.

ACTION: Notice; issuance of an incidental harassment authorization; correction.

SUMMARY: This document contains corrections to the DATES caption of the notice of issuance of an incidental harassment authorization (IHA) for the take of marine mammals incidental to the Sand Island Pile Dike System Test Piles Project Near the Mouth of the Columbia River. This action is necessary to correct errors in the effective dates of the issued IHA. The scope of the activities and anticipated effects remain the same, authorized take numbers have not changed, and the required mitigation, monitoring, and reporting remain the same.

FOR FURTHER INFORMATION CONTACT: Rob Pauline, Office of Protected Resources, NMFS, (301) 427-8401.

SUPPLEMENTARY INFORMATION:

Background

NMFS published a notice in the Federal Register on November 12, 2019 (84 FR 61026) announcing that an IHA had been issued to the U.S. Army Corps of Engineers, Portland District (Corps) authorizing the take of marine mammals incidental to the planned Sand Island Pile Dike System Test Piles Project effective for one year from the date of issuance. NMFS refers the reader to the November 12, 2019, Federal Register notice (84 FR 61026) for background information concerning the IHA. The information in the notice of issuance is not repeated here. As published, the notice of issuance contains errors, which need to be clarified.

Correction

1. On page 61026 in the third column, the DATES section is corrected to read as follows:

DATES: This Authorization is effective from September 15, 2020, through September 14, 2021.

2. On page 61037 in the third column, the paragraph under the heading “Authorization” is corrected to read as follows:

NMFS has issued an IHA to the Corps for conducting test pile installation and removal at the Sand Island Pile Dike system near the MCR, effective from September 15, 2020 through September 14, 2021, provided the mitigation, monitoring, and reporting requirements are incorporated.

Dated: December 16, 2019.
Catherine Marzin,
Deputy Director, Office of Protected Resources, National Marine Fisheries Service.

[FR Doc. 2019-27570 Filed 12-20-19; 8:45 am]

BILLING CODE 3510-22-P